DEPARTMENT OF HEALTH AND HUMAN SERVICES

Health Resources and Services Administration

Notice of Non-Competitive Award of Funding to the Communities Advocating Emergency AIDS Relief (CAEAR) Coalition Foundation, Inc

AGENCY: Health Resources and Services Administration (HRSA), HHS.

ACTION: Notice of Non-Competitive Award of Funding to the Communities Advocating Emergency AIDS Relief (CAEAR) Coalition Foundation, Inc.

SUMMARY: This Federal Register Notice announces the non-competitive extension of Grant Number U69HA07626, Supporting Networks of HIV Care by Enhancing Primary Medical Care (SNHC by EPMC), to the CAEAR Coalition Foundation, Inc., the awardee of record, for one additional year, through August 31, 2010, at a funding level of approximately $1,451,445. The purpose of the award extension is to allow for the completion of ongoing work and an external evaluation assessment of the project's activities undertaken during the project period of September 1, 2006, through August 31, 2009, before a new competitive cycle is started. Evaluation findings will help HRSA frame a new competitive opportunity in fiscal year (FY) 2010. The authority for this funding is the Public Health Service Act, section 2692, 42 U.S.C. § 300ff-111, as amended by the Ryan White HIV/AIDS Treatment Modernization Act of 2006 (Pub. L. 109-415); it can be viewed under the Catalog for Federal Domestic Assistance (CFDA) Number 93.145.

SUPPLEMENTARY INFORMATION: HRSA's HIV/AIDS Bureau's (HAB), Division of Training and Technical Assistance (DTTA), awarded the current awardee non-competitive funding for FY 2009 for a fourth and final project year September 1, 2009, through August 31, 2010, in the amount of $1,451,445, which represents $2,085,822 less than awarded in fiscal year FY 2008 for year three activities.

The SNHC by EPMC is solely funded by the Secretary of Health and Human Services' Minority AIDS Initiative (MAI) and utilizes innovative strategies and activities specifically targeted to the highest risk and hardest-to-serve minority populations and communities of color. The SNHC by EPMC is a national technical assistance (TA) and capacity building project with the goal to ensure providers' ability to serve ethnic/racial minority communities; enable providers to adapt to an environment of few resources, rising costs, and growing HIV/AIDS prevalence; integrate new providers into systems of HIV care; and identify and deliver best practices and clinical guidelines to ultimately improve the lives of those impacted by HIV/AIDS.

Owing to unanticipated changes and delays in initiating the originally proposed projected activities and the evaluation of the program, additional time and resources are necessary to conclude the proposed activities and the external evaluation of the project's activities. This evaluation and assessment, to be completed between September 1, 2009, and November 30, 2009, are critical to HRSA in developing a new competitive opportunity in fiscal year (FY) 2010 that more specifically targets the needs of primary care organizations that treat individuals with HIV/AIDS, and provides more refined approaches to the conduct of technical assistance and training that supports and sustains such organizations.

By non-competitively awarding funds to the current grantee, CAEAR Coalition Foundation, Inc., in the fourth year, the external evaluation will be able to take into account the complete collection of case studies and provide a meta-analysis, thereby furthering the Agency's understanding of capacity needs of HIV service providers and allowing for better targeted future funding decisions. Given the importance and visibility of this departmental initiative, it is critical that this project be assessed and evolve in a manner that addresses the ever changing HIV epidemic and its impact on marginalized populations and the safety net providers that serve them.

FOR FURTHER INFORMATION CONTACT: Lauresa T. Washington, Health Resources and Services Administration, HIV/AIDS Bureau, 5600 Fishers Lane, Room 7-29, Rockville, Maryland 20857, or e-mail Lauresa.Washington@hrsa.hhs.gov.

Dated: September 17, 2009.
Mary K. Wakefield,
Administrator.

[FR Doc. E9-23010 Filed 9-23-09; 8:45 am]

BILLING CODE 4165-15-P